DEPARTMENT OF THE TREASURY

Proposed Collection; Comment Request

AGENCY: Financial Crimes Enforcement Network (“FinCEN”), Treasury.

ACTION: Notice and request for comments.

SUMMARY: In order to comply with the requirements of the Paperwork Reduction Act of 1995 concerning proposed extensions of information collection requirements, FinCEN is soliciting comments concerning Treasury Form TD F 90-22.49, Suspicious Activity Report by Casinos (“SARC”), which is used by Nevada casinos to file reports with the U.S. Department of the Treasury of potentially suspicious transactions and activities that may occur by, at, or through a Nevada casino.

DATES: Written comments must be received on or before July 23, 2001.

ADDRESSES: Direct all written comments to the Financial Crimes Enforcement Network, Office of Compliance and Regulatory Enforcement, Attn.: SARC Comments, Suite 200, 2070 Chain Bridge Road, Vienna, VA 22182-2536.

FOR FURTHER INFORMATION CONTACT: Requests for additional information or for a copy of the SARC form should be directed to Leonard C. Senia, Regulatory Program Specialist (Team Leader), Office of Compliance and Regulatory Enforcement, (202) 354-6412; or Stacie A. Larson, Office of Chief Counsel, (703) 905-3590. A copy of the SARC form can be obtained through the Internet at http://www.treas.gov/fincen/forms.html. (Also, comments may be submitted by electronic mail to the following Internet address: “regcomments@fincen.treas.gov” with the caption in the body of the text, “Attention: PRA Comments—SARC”).

SUPPLEMENTARY INFORMATION: The gaming regulation of the State of Nevada requires certain casinos licensed by that state to report suspicious transactions to the Treasury Department. See, Nevada Gaming Commission Regulation 6A, Section 100, effective October 1, 1997. Regulation 6A applies to all Nevada casinos with gross annual gaming revenue in excess of $10 million and having an annual table games statistical win in excess of $2,000,000. TD F 90-22.49 is the form used to make the report.

Information collected on the SARC will be made available, in accordance with strict safeguards, to appropriate criminal law enforcement and regulatory personnel in the official performance of their duties. The information collected is used for regulatory purposes and in investigations involving money laundering, tax violations, fraud, and other financial crimes.

This notice proposes no changes to the current text of the TD F 90-22.49 or its instructions.

In accordance with requirements of the Paperwork Reduction Act of 1995, 44 U.S.C. 3506(c)(2)(A), and its implementing regulations, 5 CFR 1320, the following information concerning the collection of information on TD F 90-22.49, is presented to assist those persons wishing to comment on the information collection. The estimates below are based on FinCEN's experience with SARC forms that were filed during calendar year 2000.

Title: Suspicious Activity Report by Casinos (“SARC”).

Form Number: TD F 90-22.49.

OMB Number: 1506-0006.

Type of Request: Extension of a currently approved information collection.

Description of Respondents: Businesses.

Estimated Number of Respondents: 110.

Estimated Number of Annual Responses: 107.

Frequency: As required.

Estimate of Burden: Reporting average of 31 minutes per response; recordkeeping average of 5 minutes per response.

Estimate of Total Annual Burden on Respondents: Reporting burden estimate=55 hours; recordkeeping burden estimate=9 hours. Estimated combined total of 64 hours.

Estimate of Total Annual Cost to Respondents for Hour Burdens: Based on $20 per hour, the total cost to the public is estimated to be $1,280.

Estimate of Total Other Annual Costs to Respondents: None.

Request for Comments

FinCEN specifically invites comments on the following subjects: (a) Whether the proposed collection of information is necessary for the proper performance of the mission of FinCEN, including whether the information shall have practical utility; (b) the accuracy of FinCEN's estimate of the burden of the proposed collection of information; (c) ways to enhance the quality, utility, and clarity of the information to be collected; and (d) ways to minimize the burden of the collection of information on respondents, including through the use of automated collection techniques or other forms of information technology.

In addition, the Paperwork Reduction Act of 1995 requires agencies to estimate the total annual cost burden to respondents or recordkeepers resulting from the collection of information. Thus, FinCEN also specifically requests comments to assist with this estimate. In this connection, FinCEN requests commenters to identify any additional costs associated with the completion of the form. These comments on costs should be divided into two parts: (1) Any additional costs associated with reporting; and (2) any additional costs associated with recordkeeping.

Responses to the questions posed by this notice will be summarized and included in the request for Office of Management and Budget approval. All comments will become a matter of public record.

Dated: May 15, 2001.
James F. Sloan,
Director, Financial Crimes Enforcement Network.

[FR Doc. 01-13059 Filed 5-22-01; 8:45 am]

BILLING CODE 4820-03-P